NATIONAL AERONAUTICS AND SPACE ADMINISTRATION

[Notice (10-098)]

NASA Advisory Council; Commercial Space Committee; Meeting

AGENCY: National Aeronautics and Space Administration.

ACTION: Notice of Meeting.

SUMMARY: In accordance with the Federal Advisory Committee Act, Public Law 92-463, as amended, the National Aeronautics and Space Administration announces a meeting of the Commercial Space Committee of the NASA Advisory Council.

DATES: Tuesday September 14, 8 a.m. to 12 noon CDT.

ADDRESSES: NASA Johnson Space Center, Building 1, Room 966.

FOR FURTHER INFORMATION CONTACT: Mr. John Emond, Innovative Partnerships Program, Office of the Chief Technologist, National Aeronautics and Space Administration, Washington, DC 20546. Phone 202-358-1686, fax: 202-358-3878, john.l.emond@nasa.gov.

SUPPLEMENTARY INFORMATION: The intent of this meeting is to brief the Space Operations Committee of the NASA Advisory Council on recent deliberations by the Commercial Space Committee, and to exchange information on matters of mutual interest regarding commercial cargo and crew planning efforts. The Commercial Space Committee will also attend a briefing by NASA officials to the Space Operations Committee following the joint discussion. The meeting will be open to the public up to the seating capacity of the room. It is imperative that the meeting be held on this date to accommodate the scheduling priorities of the key participants. Please e-mail Mr. John Emond at john.l.emond@nasa.gov, if you plan to attend.

August 25, 2010.
P. Diane Rausch,
Advisory Committee Management Office, National Aeronautics and Space Administration.

[FR Doc. 2010-21689 Filed 8-30-10; 8:45 am]

BILLING CODE P